ENVIRONMENTAL PROTECTION AGENCY

[FRL-8022-7]

Notice of Public Meeting of the National Environmental Education Advisory Council

Notice is hereby given that the National Environmental Education Advisory Council, established under section 9 of the National Environmental Education Act of 1990 (the Act), will hold a public meeting on February 16 and 17, 2006. The meeting will take place at 1200 Pennsylvania Ave., NW., Washington, DC from 9 a.m. to 5 p.m. on Thursday, February 16th and Friday, February 17th. The purpose of this meeting is to provide the Council with an opportunity to advise EPA's Office of Children's Health Protection and Environmental Education (OCHPEE) and the Office of Environmental Education (OEE) on its implementation of the Act. Members of the public are invited to attend and to submit written comments to EPA following the meeting. For information on facilities or services for the handicapped or to request special assistance at the meetings, please contact the Designated Federal Officer.

For additional information regarding the Council's upcoming meeting, please contact Ginger Potter, Office of Environmental Education (1704A), Office of Children's Health Protection and Environmental Education, U.S. Environmental Protection Agency, 1200 Pennsylvania Avenue, NW., Washington, DC 20460 or call (202) 564-0453.

Dated: January 6, 2006.
Ginger Potter,
Designated Federal Official, National Environmental Education Advisory Council.

[FR Doc. E6-469 Filed 1-17-06; 8:45 am]

BILLING CODE 6560-50-P